DEPARTMENT OF STATE

[Public Notice 5970]

Shipping Coordinating Committee; Notice of Meeting

The Subcommittee on Radio Communications and Search and Rescue of the Shipping Coordinating Committee (SHC) will conduct open meetings at 9:30 a.m. Thursday, December 13, 2007, Wednesday, January 9, February 20, March 12, and April 2, 2008. The meetings will be held in suite 1060 of the Radio Technical Commission for Maritime Services (RTCM), 1800 North Kent Street, Arlington, VA 22209. These meetings are to prepare for the 12th Session of the International Maritime Organization (IMO) Subcommittee on Radiocommunications and Search and Rescue (COMSAR) scheduled for April 6-10, 2008 in London, England.

The primary matters to be considered include:

—Global Maritime Distress and Safety System (GMDSS);

—International Telecommunication Union (ITU) Radiocommunication matters;

—Satellite services (Inmarsat and COSPAS-SARSAT);

—Matters concerning search and rescue;

—Developments in maritime radiocommunication systems and technology;

—Revision of the International Aeronautical and Maritime Search and Rescue (IAMSAR) Manual;

—Replacements for use of NBDP (radio telex) for maritime distress and safety communications in maritime MF/HF bands;

—Guidelines for uniform operating limitations of high-speed craft; and

—Development of an e-navigation strategy.

Members of the public may attend these meetings up to the seating capacity of the rooms. Interested persons may seek information, including meeting room numbers, by writing: Mr. Russell S. Levin, U.S. Coast Guard Headquarters, Commandant (CG-622), Jemal Building Room JR10-1216, 1900 Half Street, SW., Washington, DC 20593 or by sending e-mail to Russell.S.Levin@USCG.mil.

Dated: November 21, 2007.
Mark W. Skolnicki,
Executive Secretary, Shipping Coordinating Committee, Department of State.

[FR Doc. E7-23167 Filed 11-28-07; 8:45 am]

BILLING CODE 4710-09-P